DEPARTMENT OF LABOR

Employment and Training Administration

[TA-W-50,569]

Datex-Ohmeda, Inc., Including Leased Workers of Kelly Services, Louisville, CO; Amended Certification Regarding Eligibility To Apply for Worker Adjustment Assistance

In accordance with section 223 of the Trade Act of 1974 (19 U.S.C. 2273) the Department of Labor issued a Certification of Eligibility to Apply for Worker Adjustment Assistance on February 21, 2003, applicable to workers of Datex-Ohmeda, Inc., Louisville, Colorado. The notice was published in the Federal Register on March 10, 2003 (68 FR 11410).

At the request of the State agency, the Department reviewed the certification for workers of the subject firm. New information shows that leased workers of Kelly Services were employed at Datex-Ohmeda, Inc. to produce pulse oximeters at the Louisville, Colorado location of the subject firm.

Based on these findings, the Department is amending this certification to include leased workers of Kelly Services working at Datex-Ohmeda, Inc., Louisville, Colorado.

The intent of the Department's certification is to include all workers employed at Datex-Ohmeda, Inc. who were adversely affected by a shift in production to India.

The amended notice applicable to TA-W-50,569 is hereby issued as follows:

All workers of Datex-Ohmeda, and including leased workers of Kelly Services employed at Datex-Ohmeda, Louisville, Colorado, who became totally or partially separated from employment on or after January 14, 2002, through February 21, 2005, are eligible to apply for adjustment assistance under section 223 of the Trade Act of 1974.

Signed in Washington, DC this 6th day of February, 2004.
Richard Church,
Certifying Officer, Division of Trade Adjustment Assistance.

[FR Doc. 04-4969 Filed 3-4-04; 8:45 am]

BILLING CODE 4510-30-P